ENVIRONMENTAL PROTECTION AGENCY

40 CFR Part 81

[EPA-HQ-OAR-2012-0233; FRL-9908-80-OAR]

Air Quality Designations for the 2010 Sulfur Dioxide (SO2) Primary National Ambient Air Quality Standard (NAAQS): Notice of Action Denying Petition for Reconsideration and Stay Request

AGENCY: Environmental Protection Agency (EPA).

ACTION: Notice of action denying petition for reconsideration and stay request.

SUMMARY: The Environmental Protection Agency (EPA) is providing notice that it has responded to a petition for reconsideration of a rule published in the Federal Register on August 5, 2013, that promulgated the initial air quality designations for the 2010 Primary Sulfur Dioxide (SO2) National Ambient Air Quality Standard (NAAQS) for certain areas in the United States. The rule is titled, “Air Quality Designations for the 2010 SO2 Primary NAAQS.” Subsequent to publishing the rule, the EPA received three petitions requesting that the EPA reconsider its designation decisions for certain areas. This document announces the EPA's response to one of those petitions: a petition from U.S. Steel requesting the EPA to reconsider its designation decision for Detroit, Michigan. A subsequent document will announce the EPA's response to the other two petitions. The EPA carefully considered the U.S. Steel's petition and supporting information, along with information contained in the rulemaking docket, in reaching its decision on the petition. The EPA denied the U.S. Steel's petition for reconsideration in a letter to the petitioner dated March 11, 2014. The letter explains the EPA's reasons for the denial. The petitioner also requested that the EPA stay the effectiveness of the designations rule, pending reconsideration. Because the EPA denied the reconsideration request, the EPA also denied the stay request.

DATES: The petition for reconsideration discussed in this document is denied as of April 1, 2014.

FOR FURTHER INFORMATION CONTACT: Rhonda Wright, Air Quality Planning Division, Office of Air Quality Planning and Standards, U.S. Environmental Protection Agency, Mail Code C539-04, Research Triangle Park, NC 27711; telephone: (919) 541-1087; email: wright.rhonda@epa.gov.

SUPPLEMENTARY INFORMATION:

I. Where can I get copies of this document and other related information?

This Federal Register document, the petition for reconsideration and the response letter to the petitioner are available in the EPA's docket established for the rulemaking to promulgate the air quality designations for the 2010 SO2 Primary NAAQS, under Docket ID No. EPA-HQ-OAR-2012-0233. The table below identifies the petitioner, the date of petition to the EPA, the document identification number of the petition in the docket, the date of the EPA's acknowledgement letter and the document identification number in the docket for the EPA's response.

Petitioner | Date of petition to the EPA | Petition: document No. in docket | Date of the EPA response | The EPA response: document number in docket
Detroit, MI Nonattainment Area
U.S. Steel Corporation—Great Lakes Works | October 2, 2013 | 0357 | March 11, 2014 | −0363

All documents in the docket are listed in the index at http://www.regulations.gov. Although listed in the index, some information is not publicly available, e.g., confidential business information or other information where disclosure is restricted by statute. Certain other material, such as copyrighted material, is not placed on the Internet and will be publicly available only in hard copy form. Publicly available docket materials are available either electronically through http://www.regulations.gov or in hard copy at EPA's Docket Center, Public Reading Room, William Jefferson Clinton West Building, Room 3334, 1301 Constitution Avenue NW., Washington, DC 20004. This Docket Center is open from 8:30 a.m. to 4:30 p.m., Monday through Friday, excluding legal holidays. The telephone number for the Public Reading Room is (202) 566-1744, and the telephone number for the Air Docket is (202) 566-1742.

In addition, the EPA has established a Web site for the SO2 designations rulemaking at http://www.epa.gov/so2designations. This Federal Register notice, the petition for reconsideration, and the response letter to the petitioner are also available on this Web site along with other information relevant to the designations process.

II. Judicial Review

Section 307(b)(1) of the Clean Air Act indicates which Federal Courts of Appeal have venue for petitions for review of final actions by the EPA. This section provides, in part, that petitions for review must be filed in the Court of Appeals for the District of Columbia Circuit (i) when the agency action consists of “nationally applicable regulations promulgated, or final actions taken, by the Administrator,” or (ii) when such action is locally or regionally applicable, if “such action is based on a determination of nationwide scope or effect and if in taking such action the Administrator finds and publishes that such action is based on such a determination.” In the rule establishing air quality designations for the 2010 SO2 Primary NAAQS, the EPA determined that the actions are of nationwide scope and effect for the purposes of section 307(b)(1). (See 78 FR 47191, 47197 (August 5, 2013).)

The EPA has determined that its action denying the petition for reconsideration also is of nationwide scope and effect because this action directly relates to the SO2 designations rulemaking that the EPA previously determined is of nationwide scope and effect. Thus, any petition for review of the final letter denying the petition for reconsideration must be filed in the Court of Appeals for the District of Columbia Circuit on or before June 2, 2014.

Dated: March 19, 2014.
Janet McCabe,
Acting Assistant Administrator, Office of Air and Radiation.

[FR Doc. 2014-06813 Filed 3-31-14; 8:45 am]

BILLING CODE 6560-50-P